FEDERAL COMMUNICATIONS COMMISSION

47 CFR Part 73

[DA 05-2303; MB Docket No. 03-222; RM-10812]

Radio Broadcasting Services; Charlotte and Grand Ledge, MI

AGENCY: Federal Communications Commission.

ACTION: Final rule.

SUMMARY: In response to a Notice of Proposed Rule Making, 68 FR 62554 (November 5, 2003), this Report and Order substitutes Channel 225A for Channel 224A, at FM Station WQTX, Charlotte, Michigan, reallots Channel 225A to Grand Ledge, Michigan, and modifies Station WQTX's license accordingly. The coordinates for Channel 225A at Grand Ledge Michigan are 42-42-17 NL and 84-37-20 WL, with a site restriction of 11.5 kilometers (7.2 miles) southeast of Grande Ledge.

DATES: Effective October 3, 2005.

FOR FURTHER INFORMATION CONTACT: R. Barthen Gorman, Media Bureau, (202) 418-2180.

SUPPLEMENTARY INFORMATION: This is a synopsis of the Commission's Report and Order, MB Docket No. 03-322, adopted August 17, 2005, and released August 19, 2005. The full text of this Commission decision is available for inspection and copying during normal business hours in the FCC's Reference Information Center at Portals II, 445 12th Street, SW., Room CY-A257, Washington, DC 20554. The document may also be purchased from the Commission's duplicating contractor, Best Copy and Printing, Inc., Portals II, 445 12th Street, SW., Room CY-B402, Washington, DC 20554, telephone 1-800-378-3160 or http://www.BCPIWEB.com. The Commission will send a copy of this Report and Order in a report to be sent to Congress and the Government Accountability Office pursuant to the Congressional Review Act, see 5 U.S.C. 801(a)(1)(A).

List of Subjects in 47 CFR Part 73

Radio, Radio broadcasting.

Part 73 of Title 47 of the Code of Federal Regulations is amended as follows:

PART 73—RADIO BROADCAST SERVICES

1. The authority citation for part 73 reads as follows:

Authority: 47 U.S.C. 154, 303, 334 and 336.

§ 73.202 [Amended]

2. Section 73.202(b), the Table of FM Allotments under Michigan, is amended by removing Channel 224A at Charlotte, and adding Grand Ledge, Channel 225A.

Federal Communications Commission.
John A. Karousos,
Assistant Chief, Audio Division, Media Bureau.

[FR Doc. 05-17522 Filed 9-6-05; 8:45 am]

BILLING CODE 6712-01-P